FEDERAL COMMUNICATIONS COMMISSION

47 CFR Part 73

[DA 05-2495; MB Docket No. 05-270; RM-11268; RM-11272]

Radio Broadcasting Services; Aguila, Apache Junction, Buckeye, Glendale, Peoria, Wenden, and Wickenburg, AZ

AGENCY: Federal Communications Commission.

ACTION: Proposed rule.

SUMMARY: This document requests comments on a petition for rule making filed by Entravision Holdings, L.L.C. (“Petitioner”), licensee of Stations KVVA-FM, Apache Junction, Arizona; KDVA(FM), Buckeye, Arizona, and KLNZ(FM), Glendale, Arizona. Petitioner requests that the Commission upgrade Channel 296C3, Station KVVA-FM, to Channel 296C1 and reallot Channel 296C1 from Apache Junction to Peoria, Arizona, as Peoria's first local aural transmission service; substitute Channel 229C3 for vacant Channel 297C3 at Aguila, Arizona; upgrade Channel 295A, Station KDVA(FM), to Channel 295C3, and reallot Channel 295C3 to Wenden, Arizona, as Wenden's first local aural transmission service; and reallot Channel 278C, Station KLNZ(FM), from Glendale to Buckeye, Arizona. In addition, since Black Entrepreneur Association, Inc. (“BEA”) has filed a rulemaking petition to allot Channel 229C3 at Wickenburg, Arizona, that is mutually exclusive with Petitioner's proposal to substitute Channel 229C3 for Channel 297C3 at Aguila, the Commission shall compare BEA's proposal with Petitioner's entire proposal to determine which proposal should be granted.

The coordinates for proposed Channel 296C1 at Peoria, Arizona, are 33-35-47 NL and 112-05-31 WL, with a site restriction of 13.5 kilometers (8.4 miles) east of Peoria. The coordinates for proposed Channel 229C3 at Aguila, Arizona, are 33-56-34 NL and 113-10-24 WL. The coordinates for proposed Channel 295C3 at Wenden, Arizona, are 33-49-06 NL and 113-37-46 WL, with a site restriction of 8.2 kilometers (5.1 miles) west of Wenden. The proposed Channel 278C at Buckeye, Arizona, are 33-35-33 NL and 112-34-49 WL, with a site restriction of 24.7 kilometers (15.3 miles) north of Buckeye. Lastly, if BEA's proposal for Channel 229C3 at Wickenburg, Arizona is preferred over Petitioner's rulemaking proposal, Channel 229C3 can be allotted to Wickenburg at coordinates of 33-53-49 NL and 112-54-45 WL, with a site restriction of 18.7 kilometers (11.6 miles) southwest of Wickenburg, Arizona.

DATES: Comments must be filed on or before November 17, 2005, and reply comments on or before December 2, 2005.

ADDRESSES: Secretary, Federal Communications Commission, 445 12th Street, SW., Room TW-A325, Washington, DC 20554. In addition to filing comments with the FCC, interested parties should serve Petitioner's counsel, as follows: Barry A. Friedman, Esq., Thompson Hine L.L.P.; 1920 N Street, NW., Suite 800; Washington, DC 20036; and Mark N. Lipp, Esq. and Scott Woodworth, Esq., Vinson & Elkins, L.L.P.; 1455 Pennsylvania, NW., Suite 600; Washington, DC 20004. Further, a copy of such comments should be served on counsel for Black Entrepreneur Association, Inc., as follows: Ernest T. Sanchez, Esq., The Sanchez Law Firm; 2300 M Street, NW., Suite 800; Washington, DC 20037.

FOR FURTHER INFORMATION CONTACT: R. Barthen Gorman, Media Bureau, (202) 418-2180.

SUPPLEMENTARY INFORMATION: This is a synopsis of the Commission's Notice of Proposed Rule Making, MB Docket No. 05-270, adopted September 23, 2005 and released September 26, 2005. The full text of this Commission decision is available for inspection and copying during regular business hours in the FCC's Reference Information Center at Portals II, 445 12th Street, SW., CY-A257, Washington, DC 20554. This document may also be purchased from the Commission's duplicating contractors, Best Copy and Printing, Inc., Portals II, 445 12th Street, SW., Room CY-B402, Washington, DC 20554, telephone 1-800-378-3160 or http://www.BCPIWEB.com.

The Federal Communications Commission granted a license for Station KVVA-FM, Apache Junction, Arizona, specifying operation on Channel 296C3, on May 8, 1997. See File No. BLH-19961025KB. Station KVVA-FM is still operating on Channel 296C3. Nevertheless, 47 CFR 73.202, The FM Table of Allotments, erroneously lists Channel 296C2 as being allotted to Apache Junction, Arizona.

The provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contracts.

This document does not contain proposed information collection requirements subject to the Paperwork Reduction Act 0f 1995, Public Law 104-13. In addition, therefore, it does not contain any proposed information collection burden “for small business concerns with fewer than 25 employees,” pursuant to the Small Business Paperwork Relief Act of 2002, Public Law 107-198, see 44 U.S.C. 3506 (c)(4).

For information regarding proper filing procedures for comments, See 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for Part 73 continues to read as follows:

Authority: 47 U.S.C. 154, 303, 334, and 336.

§ 73.202 [Amended]

2. Section 73.202(b), the Table of FM Allotments under Arizona, is amended by removing Channel 297C3 and adding Channel 229C3 at Aguila; removing Apache Junction, Channel 296C2; removing Channel 295A and adding Channel 278C at Buckeye; removing Channel 278C at Glendale; adding Peoria, Channel 296C1; adding Wenden, Channel 295C3; or adding Channel 229C3 at Wickenburg.

Federal Communications Commission.
John A. Karousos,
Assistant Chief, Audio Division, Media Bureau.

[FR Doc. 05-20444 Filed 10-11-05; 8:45 am]

BILLING CODE 6712-01-P